INTERNATIONAL TRADE COMMISSION

[ Inv. No. 337-TA-660]

In the Matter of Certain Active Comfort Footwear; Notice of Commission Determination Not To Review an Initial Determination Granting In Part Complainants' Amended Motion To Amend the Complaint and Notice of Investigation

AGENCY: U.S. International Trade Commission.

ACTION: Notice.

SUMMARY: Notice is hereby given that the U.S. International Trade Commission has determined not to review an initial determination (“ID”) (Order No. 4) of the presiding administrative law judge (“ALJ”) granting in part an amended motion to amend the complaint and notice of investigation.

FOR FURTHER INFORMATION: Mark B. Rees, Esq., Office of the General Counsel, U.S. International Trade Commission, 500 E Street, SW., Washington, DC 20436, telephone 202-205-3116. Copies of the ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: The Commission instituted this investigation on November 25, 2008, based on the complaint of Masai Marketing & Trading AG of Romanshorn, Switzerland and Masai USA Corp. of Haley, Idaho (“Complainants”). 73 FR 73884 (Nov. 25, 2008). The complaint, as supplemented, alleges violations of section 337 of the Tariff Act of 1930 (19 U.S.C. 1337) in the importation into the United States, the sale for importation, and the sale within the United States after importation of certain active comfort footwear that infringes certain claims of U.S. Patent No. 6,341,432. Complainants named as respondents RYN Korea Co., Ltd. of Seoul, Korea; Main d/b/a WalkingShoesPlus.com of Los Angeles, California; and Feet First Inc. of Boca Raton, Florida.

On January 30, 2009, Complainants filed a motion seeking leave to amend the complaint and notice of investigation to add three additional respondents to the investigation. On February 11, 2009, the ALJ issued an ID (Order No. 4) in which he determined to grant the motion in part and amend the notice of investigation to add as respondents The Tannery of Cambridge, Massachusetts and A Better Way to Health of West Melbourne, Florida. No party petitioned for review of the ID.

The Commission has determined not to review the ID.

The authority for the Commission's determination is contained in section 337 of the Tariff Act of 1930, as amended (19 U.S.C. 1337), and in section 210.42(h) of the Commission's Rules of Practice and Procedure (19 CFR 210.42(h)).

By order of the Commission.
Issued: March 11, 2009.
Marilyn R. Abbott,
Secretary to the Commission.

[FR Doc. E9-5670 Filed 3-16-09; 8:45 am]

BILLING CODE 7020-02-P